DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona: Maricopa (FEMA Docket No.: B-2054). | Town of Gilbert (20-09-0521P). | The Honorable Jenn Daniels, Mayor, Town of Gilbert, 50 East Civic Center Drive, Gilbert, AZ 85296. | Development Services Department, 90 East Civic Center Drive, Gilbert, AZ 85296. | Nov. 13, 2020 | 040044
Colorado:
Denver (FEMA Docket No.: B-2049). | City and County of Denver (20-08-0456P). | The Honorable Michael B. Hancock, Mayor, City and County of Denver, 1437 North Bannock Street, Room 350, Denver, CO 80202. | Department of Public Works, 201 West Colfax Avenue, Denver, CO 80202. | Nov. 23, 2020 | 080046
Jefferson (FEMA Docket No.: B-2054). | City of Lakewood (20-08-0105P). | The Honorable Adam Paul, Mayor, City of Lakewood, 480 South Allison Parkway, Lakewood, CO 80226. | City Hall, 480 South Allison Parkway, Lakewood, CO 80226. | Nov. 20, 2020 | 085075
Florida:
Collier (FEMA Docket No.: B-2049). | City of Marco Island (20-04-2874P). | Mr. Michael T. McNees, Manager, City of Marco Island, 50 Bald Eagle Drive, Marco Island, FL 34145. | Building Services Department, 50 Bald Eagle Drive, Marco Island, FL 34145. | Nov. 9, 2020 | 120426
Duvall (FEMA Docket No.: B-2049). | City of Jacksonville (20-04-0754P). | The Honorable Lenny Curry, Mayor, City of Jacksonville, 117 West Duval Street, Suite 400, Jacksonville, FL 32202. | Development Services Division, 214 North Hogan Street, Jacksonville, FL 32202. | Nov. 10, 2020 | 120077
Miami-Dade (FEMA Docket No.: B-2054). | City of Florida City (19-04-6515P). | The Honorable Otis T. Wallace, Mayor, City of Florida City, 404 West Palm Drive, Florida City, FL 33034. | Building and Zoning Department, 404 West Palm Drive, Florida City, FL 33034. | Nov. 18, 2020 | 120641
Miami-Dade (FEMA Docket No.: B-2054). | City of Homestead (19-04-6515P). | The Honorable Steven D. Losner, Mayor, City of Homestead, 100 Civic Court, Homestead, FL 33030. | Development Services Department, 100 Civic Court, Homestead, FL 33030. | Nov. 18, 2020 | 120645
Miami-Dade (FEMA Docket No.: B-2054). | City of Sunny Isles Beach (20-04-4036P). | The Honorable George “Bud” Scholl, Mayor, City of Sunny Isles Beach, 18070 Collins Avenue, Sunny Isles Beach, FL 33160. | Building Department, 18070 Collins Avenue, Sunny Isles Beach, FL 33160. | Nov. 19, 2020 | 120688
Miami-Dade (FEMA Docket No.: B-2054). | Unincorporated areas of Miami-Dade County (19-04-6515P). | The Honorable Carlos A. Gimenez, Mayor, Miami-Dade County, 111 Northwest 1st Street, 29th Floor, Miami, FL 33128. | Miami-Dade County Environmental Resources Management Department, 701 Northwest 1st Court, Suite 500, Miami, FL 33136. | Nov. 18, 2020 | 120635
Sarasota (FEMA Docket No.: B-2052). | City of Sarasota (20-04-2373P). | The Honorable Jennifer Ahearn-Koch, Mayor, City of Sarasota, 1565 1st Street, Room 101, Sarasota, FL 34236. | Development Services Department, 1565 1st Street, Sarasota, FL 34236. | Nov. 23, 2020 | 125150
Georgia: Gwinnett (FEMA Docket No.: B-2054). | City of Duluth (20-04-1631P). | Mr. James Riker, Manager, City of Duluth, 3167 Main Street, Duluth, GA 30096. | Department of Planning and Development, 3167 Main Street, Duluth, GA 30096. | Nov. 19, 2020 | 130098
Maine:
Washington (FEMA Docket No.: B-2049). | Town of Addison (20-01-0671P). | The Honorable Verlan R. Lenfestey Jr., Chairman, Town of Addison Board of Selectmen, P.O. Box 142, Addison, ME 04606. | Town Hall, 334 Water Street, Addison, ME 04606. | Nov. 12, 2020 | 230132
Washington (FEMA Docket No.: B-2049). | Town of Cherryfield (20-01-0670P). | The Honorable Arthur Tatangelo, Chairman, Town of Cherryfield Board of Selectmen, P.O. Box 58, Cherryfield, ME 04622. | Town Hall, 12 Municipal Way, Cherryfield, ME 04622. | Nov. 12, 2020 | 230135
Washington (FEMA Docket No.: B-2049). | Town of Columbia (20-01-0671P). | The Honorable Harry Beal, Jr., Chairman, Town of Columbia Board of Selectmen, 106 Epping Road, Columbia, ME 04623. | Town Hall, 106 Epping Road, Columbia, ME 04623. | Nov. 12, 2020 | 230307
Washington (FEMA Docket No.: B-2049). | Town of Columbia Falls (20-01-0671P). | The Honorable Nancy Bagley, Chair, Town of Columbia Falls Board of Selectmen, P.O. Box 100, Columbia Falls, ME 04623. | Town Hall, 8 Point Street, Columbia Falls, ME 04623. | Nov. 12, 2020 | 230308
Washington (FEMA Docket No.: B-2049). | Town of East Machias (20-01-0668P). | The Honorable Kenneth Davis, Jr., Chairman, Town of East Machias Board of Selectmen, P.O. Box 117, East Machias, ME 04630. | Town Hall, 32 Cutler Road, East Machias, ME 04630. | Nov. 12, 2020 | 230313
Washington (FEMA Docket No.: B-2049). | Town of Harrington (20-01-0671P). | The Honorable Joel Strout, Chairman, Town of Harrington Board of Selectmen, P.O. Box 142, Harrington, ME 04643. | Town Hall, 114 East Main Street, Harrington, ME 04643. | Nov. 12, 2020 | 230314
Washington (FEMA Docket No.: B-2049). | Town of Jonesboro (20-01-0668P). | The Honorable Michael Schoppee, Chairman, Town of Jonesboro Board of Selectmen, P.O. Box 86, Jonesboro, ME 04684. | Town Hall, 23 Station Road, Jonesboro, ME 04684. | Nov. 12, 2020 | 230315
Washington (FEMA Docket No.: B-2049). | Town of Jonesboro (20-01-0671P). | The Honorable Michael Schoppee, Chairman, Town of Jonesboro Board of Selectmen, P.O. Box 86, Jonesboro, ME 04684. | Town Hall, 23 Station Road, Jonesboro, ME 04684. | Nov. 12, 2020 | 230315
Washington (FEMA Docket No.: B-2049). | Town of Marshfield (20-01-0668P). | The Honorable Robert Carter, Chairman, Town of Marshfield Board of Selectmen, 187 Northfield Road, Marshfield, ME 04654. | Town Hall, 187 Northfield Road, Marshfield, ME 04654. | Nov. 12, 2020 | 230316
Washington (FEMA Docket No.: B-2049). | Town of Steuben (20-01-0670P). | The Honorable Larry Pinkham, Chairman, Town of Steuben Board of Selectmen, 294 U.S. Route 1, Steuben, ME 04680. | Town Hall, 294 U.S. Route 1, Steuben, ME 04680. | Nov. 12, 2020 | 230323
Washington (FEMA Docket No.: B-2049). | Town of Whitneyville (20-01-0668P). | The Honorable Nate Perry, Chairman, Town of Whitneyville Board of Selectmen, 42 South Main Street, Whitneyville, ME 04654. | Town Hall, 42 South Main Street, Whitneyville, ME 04654. | Nov. 12, 2020 | 230329
New Hampshire: Hillsborough (FEMA Docket No.: B-2049). | City of Manchester (20-01-0142P). | The Honorable Joyce Craig, Mayor, City of Manchester, One City Hall Plaza, Manchester, NH 03101. | City Hall, One City Hall Plaza, Manchester, NH 03101. | Nov. 9, 2020 | 330169
North Carolina: Henderson (FEMA Docket No.: B-2067). | Unincorporated areas of Henderson County (20-04-2036P). | The Honorable Grady Hawkins, Chairman, Henderson County Board of Commissioners, 1 Historic Courthouse Square, Suite 1, Hendersonville, NC 27102. | Henderson County Administration Building, 100 North King Street, Hendersonville, NC 28792. | Nov. 17, 2020 | 370125
Texas:
Collin (FEMA Docket No.: B-2052). | City of Celina (20-06-0459P). | The Honorable Sean Terry, Mayor, City of Celina, 142 North Ohio Street, Celina, TX 75009. | City Hall, 142 North Ohio Street, Celina, TX 75009. | Nov. 16, 2020 | 480133
Collin (FEMA Docket No.: B-2052). | City of Lucas (20-06-0100P). | Ms. Joni Clarke, Manager, City of Lucas, 665 Country Club Road, Lucas, TX 75002. | Public Works and Engineering Department, 665 Country Club Road, Lucas, TX 75002. | Nov. 23, 2020 | 481545
Denton (FEMA Docket No.: B-2052). | City of Aubrey (20-06-0957P). | The Honorable Janet Meyers, Mayor, City of Aubrey, 107 South Main Street, Aubrey, TX 76227. | Denton County GIS Department, 701 Kimberly Drive, Suite A285, Denton, TX 76208. | Nov. 18, 2020 | 480776
Gillespie (FEMA Docket No.: B-2054). | City of Fredericksburg (19-06-2756P). | The Honorable Gary Neffendorf, Mayor, City of Fredericksburg, 126 West Main Street, Fredericksburg, TX 78624. | City Hall, 126 West Main Street, Fredericksburg, TX 78624. | Nov. 19, 2020 | 480252
Johnson (FEMA Docket No.: B-2052). | City of Burleson (19-06-3252P). | The Honorable Ken Shetter, Mayor, City of Burleson, 141 West Renfro Street, Burleson, TX 76028. | City Hall, 141 West Renfro Street, Burleson, TX 76028. | Nov. 23, 2020 | 485459
Montgomery (FEMA Docket No.: B-2052). | City of Conroe (19-06-2853P). | The Honorable Toby Powell, Mayor, City of Conroe, P.O. Box 3066, Conroe, TX 77305. | City Hall, 300 West Davis Street, Conroe, TX 77301. | Nov. 12, 2020 | 480484
Tarrant (FEMA Docket No.: B-2049). | City of Colleyville (20-06-1166P). | The Honorable Richard Newton, Mayor, City of Colleyville, 100 Main Street, Colleyville, TX 76034. | City Hall, 100 Main Street, Colleyville, TX 76034. | Nov. 12, 2020 | 480590
Tarrant (FEMA Docket No.: B-2052). | City of Mansfield (20-06-0705P). | Mr. Clayton Chandler, Manager, City of Mansfield, 1200 East Broad Street, Mansfield, TX 76063. | Geographic Information Systems (GIS) Department, 1200 East Broad Street, Mansfield, TX 76063. | Nov. 9, 2020 | 480606
Utah: Grand (FEMA Docket No.: B-2052). | Unincorporated areas of Grand County (20-08-0298P). | The Honorable Mary McGann, Chair, Grand County Council, 125 East Center Street, Moab, UT 84532. | Grand County Courthouse, 125 East Center Street, Moab, UT 84532. | Nov. 13, 2020 | 490232
Virginia: Independent City (FEMA Docket No.: B-2052). | City of Fairfax (20-03-0228P). | Mr. Robert A. Stalzer, Manager, City of Fairfax, 10455 Armstrong Street, Room 316, Fairfax, VA 22030. | Public Works Department, 10455 Armstrong Street, Fairfax, VA 22030. | Nov. 16, 2020 | 515524

[FR Doc. 2020-28221 Filed 12-21-20; 8:45 am]

BILLING CODE 9110-12-P